DEPARTMENT OF AGRICULTURE

Animal and Plant Health Inspection Service

9 CFR Part 92

[Docket No. 01-036-2]

Requirements for Recognizing the Animal Health Status of Foreign Regions

AGENCY: Animal and Plant Health Inspection Service, USDA.

ACTION: Final rule.

SUMMARY: We are amending the regulations that set out our procedures for recognizing the animal health status of regions. Specifically, we are requiring regions that have been granted status under the regulations to provide information, or allow us to access information, to confirm the regions' animal health status when we request it. This action is necessary to help prevent the introduction of foreign animal diseases into the United States.

EFFECTIVE DATE: September 19, 2003.

FOR FURTHER INFORMATION CONTACT: Dr. Gary Colgrove, Director, Sanitary Trade Issues Team, National Center for Import and Export, VS, APHIS, 4700 River Road Unit 38, Riverdale, MD 20737-1231; (301) 734 -4356.

SUPPLEMENTARY INFORMATION:

Background

The regulations in 9 CFR part 92, “Importation of Animals and Animal Products: Procedures for Requesting Recognition of Regions” (referred to below as the regulations), set out the process by which a foreign government may request recognition of the animal health status of a region or approval to export animals or animal products to the United States based on the risk associated with animals or animal products from that region. As provided in § 92.2, each request must include information about the region, including information on the authority, organization, and infrastructure of the veterinary services organization of the region; the extent to which movement of animals and animal products is controlled from regions of higher risk, and the level of biosecurity for such movements; livestock demographics and marketing practices in the region; diagnostic laboratory capabilities in the region; and the region's policies and infrastructure for animal disease control, i.e., the region's emergency response capacity.

On March 6, 2003, we published a proposed rule in the Federal Register (68 FR 10667-10668, Docket No. 01-036-1) in which we proposed to amend the regulations to require regions that have been granted status under the regulations to provide information, or allow us to access information, to confirm the regions' animal health status when we request it.

We solicited comments concerning our proposal for 60 days ending May 5, 2003. We received four comments by that date. They were from representatives of domestic livestock producers and a State animal health agency. All of the commenters supported the proposed rule. Therefore, for the reasons given in the proposed rule, we are adopting the proposed rule as a final rule, without change.

Executive Order 12866 and Regulatory Flexibility Act

This rule has been reviewed under Executive Order 12866. The rule has been determined to be not significant for the purposes of Executive Order 12866 and, therefore, has not been reviewed by the Office of Management and Budget.

We are amending the regulations that set out our procedures for recognizing the animal health status of regions. Specifically, we are requiring regions that have been granted status under the regulations to provide information, or allow us to access information, to confirm the regions' animal health status when we request to do so. This action is necessary to help prevent the introduction of foreign animal diseases into the United States. We do not expect that this action will result in any economic effects, positive or negative.

Under these circumstances, the Administrator of the Animal and Plant Health Inspection Service has determined that this action will not have a significant economic impact on a substantial number of small entities.

Executive Order 12988

This final rule has been reviewed under Executive Order 12988, Civil Justice Reform. This rule: (1) Preempts all State and local laws and regulations that are inconsistent with this rule; (2) has no retroactive effect; and (3) does not require administrative proceedings before parties may file suit in court challenging this rule.

Paperwork Reduction Act

In accordance with the Paperwork Reduction Act of 1995 (44 U.S.C. 3501 et seq.), the information collection or recordkeeping requirements included in this rule have been approved by the Office of Management and Budget (OMB) under OMB control number 0579-0219.

Government Paperwork Elimination Act Compliance

The Animal and Plant Health Inspection Service is committed to compliance with the Government Paperwork Elimination Act (GPEA), which requires Government agencies in general to provide the public the option of submitting information or transacting business electronically to the maximum extent possible. For information pertinent to GPEA compliance related to this rule, please contact Mrs. Celeste Sickles, APHIS' Information Collection Coordinator, at (301) 734-7477.

List of Subjects in 9 CFR Part 92

Animal diseases, Imports, Livestock, Poultry and poultry products, Region, Reporting and recordkeeping requirements.

Accordingly, we are amending 9 CFR part 92 as follows:

PART 92—IMPORTATION OF ANIMALS AND ANIMAL PRODUCTS: PROCEDURES FOR REQUESTING RECOGNITION OF REGIONS

1. The authority citation for part 92 continues to read as follows:

Authority: 7 U.S.C. 1622 and 8301-8317; 21 U.S.C. 136 and 136a; 31 U.S.C. 9701; 7 CFR 2.22, 2.80, and 371.4.

2. § 92.2 is amended by redesignating paragraph (a)(1) as paragraph (a) and adding a new paragraph (g) and an OMB citation at the end of the section to read as follows:

§ 92.2 Application for recognition of the animal health status of a region.

* * * * *

(g) If a region is granted animal health status under the provisions of this section, that region may be required to submit additional information pertaining to animal health status or allow APHIS to conduct additional information collection activities in order for that region to maintain its animal health status.

(Approved by the Office of Management and Budget under control number 0579-0219)

Done in Washington, DC this 15th day of August 2003.
Peter Fernandez,
Acting Administrator, Animal and Plant Health Inspection Service.

[FR Doc. 03-21305 Filed 8-19-03; 8:45 am]

BILLING CODE 3410-34-P